SECURITIES AND EXCHANGE COMMISSION

17 CFR Parts 232, 240, 249, and 249b

[Release No. 34-72936A; File No. S7-18-11]

RIN 3235-AL15

Nationally Recognized Statistical Rating Organizations; Correction

AGENCY: Securities and Exchange Commission.

ACTION: Final rule; correction.

SUMMARY: The Securities and Exchange Commission (“Commission”) is correcting a final rule that appeared in the Federal Register of September 15, 2014 (79 FR 55078). The rule applies to credit rating agencies registered with the Commission as nationally recognized statistical rating organizations (“NRSROs”), providers of third-party due diligence services for asset-backed securities, and issuers and underwriters of asset-backed securities.¹

¹ See Nationally Recognized Statistical Rating Organizations, Exchange Act Release No. 72936 (Aug. 27, 2014), 79 FR 55078 (Sep. 15, 2014).

DATES: Effective November 14, 2014.

FOR FURTHER INFORMATION CONTACT: Rose Russo Wells, Senior Counsel, at (202) 551-5527; Division of Trading and Markets, Securities and Exchange Commission, 100 F Street NE., Washington, DC 20549-7010.

SUPPLEMENTARY INFORMATION: In FR Doc. 2014-20890, appearing on page 55078 in the Federal Register of Monday, September 15, 2014, the following corrections are made:

1. On page 55261, in the second column, under the heading “Text of Final Rules” the word “Regulation” is corrected to read “Regulations”

§ 240.15Ga-2 [Corrected]

2. On page 55261, in the third column, in § 240.15Ga-2(a), the citation “(15 U.S.C. 78c(a)(79))” is corrected to read “(15 U.S.C. 78c(a)(79)))”

§ 240.17g-3 [Corrected]

3. On page 55263, in the second column, amendment 7.f to § 240.17g-3 is corrected to read: “In paragraphs (a)(3) introductory text, (a)(4) introductory text, and (a)(5) introductory text, by removing the words “An unaudited financial report” and in their place adding the phrase “File with the Commission an unaudited financial report, as of the end of the fiscal year,” ”

4. On page 55263, in the second column, amendment 7.g to § 240.17g-3 is corrected to read “In paragraph (a)(6) introductory text, by removing the words “An unaudited report” and in their place adding the phrase “Furnish the Commission with an unaudited report, as of the end of the fiscal year,” ”

§ 240.17g-5 [Corrected]

5. On page 55264, in the second column, amendments 8.b and 8.h to § 240.17g-5, are removed and the remaining amendments are renumbered: 8.a, 8.b, 8.c, 8.d, 8.e, 8.f, 8.g, and 8.h.

§ 249b.300 [Corrected]

6. On page 55274, in Part 249b,in amendment 17, the words “Form (referenced in § 249b.300)” are corrected to read “Form NRSRO (referenced in § 249b.300)”

7. On pages 55309-55310, in Form NRSRO (referenced in § 249b.300), the list is corrected to read as follows:

BILLING CODE 8011-01-P

Dated: October 7, 2014.
Kevin M. O'Neill,
Deputy Secretary.

[FR Doc. 2014-24300 Filed 10-10-14; 8:45 am]

BILLING CODE 8011-01-C